DEPARTMENT OF TRANSPORTATION

Pipeline and Hazardous Materials Safety Administration

[Docket No. PHMSA-2022-0081]

Hazardous Materials: Notice of Application for Special Permit; Extension of Comment Period

AGENCY: Pipeline and Hazardous Materials Safety Administration (PHMSA), Department of Transportation (DOT).

ACTION: Application for a new special permit (21283-N); extension of comment period.

SUMMARY: On December 5, 2022, PHMSA announced a notice to provide awareness and solicit comments regarding a special permit application currently under review by PHMSA in consultation with the Federal Railroad Administration. In this notice, PHMSA is extending the comment period from January 4, 2023, until February 21, 2023.

DATES: Interested persons are invited to submit comments on or before February 21, 2023. Comments received after that date will be considered to the extent practicable.

ADDRESSES: You may submit comments identified by the docket number PHMSA-2022-0081 by any of the following methods:

• Federal e-Rulemaking Portal: http://www.regulations.gov. Follow the online instructions for submitting comments.

• Fax: (202) 493-2251.

• Mail: Docket Management System, U.S. Department of Transportation, Dockets Operations, M-30, Ground Floor, Room W12-140, 1200 New Jersey Avenue SE, Washington, DC 20590.

• Hand Delivery: U.S. Department of Transportation, Docket Operations, M-30, Ground Floor, Room W12-140 in the West Building, 1200 New Jersey Avenue SE, Washington, DC 20590, between 9 a.m. and 5 p.m., Monday through Friday, except Federal holidays.

Instructions: All submissions must include the agency name and docket number (PHMSA-2022-0081) for this notice at the beginning of the comment. All comments will be posted without change to http://www.regulations.gov including any personal information provided. If sent by mail, comments must be submitted in duplicate. Persons wishing to receive confirmation of receipt of their comments must include a self-addressed stamped postcard.

Docket: To access background documents or comments received, the dockets are available at http://www.regulations.gov or the DOT's Docket Operations Office at the above addresses.

Confidential Business Information: Confidential Business Information (CBI) is commercial or financial information that is both customarily and actually treated as private by its owner. Under the Freedom of Information Act (FOIA, 5 U.S.C. 552), CBI is exempt from public disclosure. If your comments to this notice contain commercial or financial information that is customarily treated as private, and that is relevant or responsive to this notice, it is important that you clearly designate the submitted comments as CBI. Please mark each page of your submission containing CBI as “PROPRIETARY.” PHMSA will treat such marked submissions as confidential under the Freedom of Information Act (FOIA).

Submissions containing CBI should be sent to Tony Gale, Transportation Specialist, Office of Hazardous Materials Safety, (202) 366-4535, specialpermits@dot.gov, PHMSA, East Building, PHH10, 1200 New Jersey Avenue SE, Washington, DC 20590. Any commentary PHMSA receives that is not specifically designated as CBI will be placed in the public docket for this rulemaking.

FOR FURTHER INFORMATION CONTACT: Tony Gale, Transportation Specialist, Office of Hazardous Materials, Pipeline and Hazardous Materials Safety Administration, U.S. Department of Transportation, 1200 New Jersey Avenue SE, Washington, DC 20590, (202) 366-4535, specialpermits@dot.gov.

SUPPLEMENTARY INFORMATION: On December 5, 2022, PHMSA announced a notice to provide awareness and solicit comments regarding a special permit application to authorize the transportation in commerce of cryogenic ethane in DOT-113C120W9 and DOT-113C120W tank cars via rail freight.¹ The notice informed the public that the subject matter of the special permit—i.e., transportation of cryogenic flammable liquids in rail tank cars—raises issues similar to the transportation of Liquefied Natural Gas (LNG) by rail, a matter for which multiple rulemakings are pending at the agency. PHMSA received five requests to extend the comment period to allow additional time for interested persons to prepare comments. In response to those requests, PHMSA is extending the comment period by 48 days until February 21, 2023. This extension provides the public additional time to provide extensive comments on the notice.

¹ 87 FR 74468 (Dec. 5, 2022).

Issued in Washington, DC, on January 20, 2023, under authority delegated in 49 CFR 1.97.
Donald P. Burger,
Chief, General Approvals and Permits Branch.

[FR Doc. 2023-01455 Filed 1-24-23; 8:45 am]

BILLING CODE 4910-60-P